DEPARTMENT OF ENERGY

Federal Energy Regulatory Commission

[Project No. 3503-011]

El Dorado Hydro; Elk Creek Hydro, LLC; Notice of Transfer of Exemption

1. By letter filed April 24, 2015,¹ William B. Conway, Jr., Counsel for Enel Green Power North America, Inc. (EGPNA),² informed the Commission that the exemption from licensing for the Elk Creek Hydroelectric Project, FERC No. 3503, originally issued July 1, 1981,³ has been transferred to Elk Creek Hydro, LLC, an affiliate of Enel Green Power. The project is located on the Elk and Little Creeks and the Little Salmon River in Idaho County, Idaho. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 16 FERC ¶ 62,009, Order Granting Exemption from Licensing of a Small Hydroelectric Project of 5 Megawatts or Less (1981).

2. Elk Creek Hydro, LLC is now the exemptee of the Elk Creek Hydroelectric Project, FERC No. 3503. All correspondence should be forwarded to: Elk Creek Hydro, LLC, c/o Enel Green Power North America, Inc., Attn: General Counsel, 1 Tech Drive, Suite 220, Andover, MA 01810.

Dated: May 18, 2015.
Kimberly D. Bose,
Secretary.

[FR Doc. 2015-12470 Filed 5-21-15; 8:45 am]

BILLING CODE 6717-01-P